INTERNATIONAL TRADE COMMISSION

[Investigations Nos. 701-TA-415 and 731-TA-933-934 (Final)]

Polyethylene Terephthalate Film, Sheet, and Strip From India and Taiwan

Determinations

On the basis of the record ¹ developed in the subject investigations, the United States International Trade Commission determines, pursuant to sections 705(b) and 735(b) of the Tariff Act of 1930 (19 U.S.C. 1671d(b) and 19 U.S.C. 1673d(b)) (the Act), respectively, that an industry in the United States is materially injured by reason of imports from India of polyethylene terephthalate film, sheet, and strip (PET film), provided for in subheading 3920.62.00 of the Harmonized Tariff Schedule of the United States, that have been found by the Department of Commerce to be subsidized by the Government of India and by reason of imports from India and Taiwan of PET film that have been found by the Department of Commerce to be sold in the United States at less than fair value (LTFV).

¹ The record is defined in sec. 207.2(f) of the Commission's Rules of Practice and Procedure (19 CFR 207.2(f)).

Background

The Commission instituted these investigations effective May 17, 2001, following receipt of a petition filed with the Commission and Commerce by DuPont Teijin Films, Wilmington, DE, Mitsubishi Polyester Film of America, Greer, SC, and Toray Plastics (America), Inc., North Kensington, RI. The final phase of the investigations was scheduled by the Commission following notification of preliminary determinations by Commerce that imports of PET film from India were being subsidized within the meaning of section 703(b) of the Act (19 U.S.C. 1671b(b)) and that imports of PET film from India and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 1, 2002 (67 FR 4995). The hearing was held in Washington, DC, on May 9, 2002, and all persons who requested the opportunity were permitted to appear in person or by counsel.

The Commission transmitted its determinations in these investigations to the Secretary of Commerce on June 18, 2002. The views of the Commission are contained in USITC Publication 3518 (June 2002), entitled Polyethylene Terephthalate Film, Sheet, and Strip from India and Taiwan: Investigations Nos. 701-TA-415 and 731-TA-933-934 (Final).

By order of the Commission.
Issued: June 24, 2002.
Marilyn R. Abbott,
Secretary to the Commission.

[FR Doc. 02-16312 Filed 6-26-02; 8:45 am]

BILLING CODE 7020-02-P